DEPARTMENT OF TRANSPORTATION

Pipeline and Hazardous Materials Safety Administration

Hazardous Materials: Notice of Applications for Special Permits

AGENCY: Pipeline and Hazardous Materials Safety Administration (PHMSA), DOT.

ACTION: List of Applications for Special Permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 26, 2017.

Address comments to: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on June 1, 2017.
Donald Burger,
Chief, Office of the Special Permits and Approvals.

Special Permits Data
Application No. | Docket No. | Applicant | Regulation(s) affected | Nature of the special permits thereof
20464-N |  | CCL CONTAINER CORPORATION | 173.306(a)(3)(ii) | To authorize the manufacture, marking, sale and use of certain non-DOT specification inside metal containers conforming with all regulations applicable to a DOT Specification 2Q inner non-refillable metal receptacle, except that alternate testing is authorized. (modes 1,2,3,4)
20469-N |  | SCOTT'S HELICOPTER SERVICE, INC | 172.101(j), 172.200, 172.204(c)(3), 172.301(c), 175.30(a)(1), 173.27(b)(2) | To authorize the transportation in commerce of certain hazardous materials by 14 CFR part 133 Rotorcraft Externnal Load Operations, transporting hazardous materials attached to or suspended from an aircraft, in remote areas of the U.S. only, without being subject to hazard communication requirements, quantity limitations and certain loading and stowage requirements. (mode 4)
20470-N |  | AUDI AKTIENGESELLSCHAFT | 172.101(j) | To authorize the transportation in commerce of lithium ion batteries in excess of 35 kg by cargo-only aircraft. (mode 4)
20471-N |  | LONE STAR SPECIALTIES, LLC | 173.213(c) | To authorize the transportation in commerce of flaked coal tar pitch in non-UN certified polypropylene bags. (modes 1, 2)
20475-N |  | MERCK & CO., INC | 173.306(a)93)(ii) | To authorize the manufacture, mark, sale, and use of non-specification metal receptacles meeting the requirements of 2Q receptacles except it exceeds the pressure authorized. (modes 1,3,4,5)
20474-N |  | SPACE EXPLORATION TECHNOLOGIES CORP | Part 172 Subparts D and E, Part 173 | To authorize the transportation in commerce of the Dragon space capsule containing non-DOT specification packages of hazardous materials. (mode 1)

[FR Doc. 2017-12128 Filed 6-23-17; 8:45 am]

BILLING CODE 4910-60-M